DEPARTMENT OF HEALTH AND HUMAN SERVICES

Centers for Disease Control and Prevention

[60Day-02-65]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Health and Safety Outcomes Related to Work Schedules in Nurses—NEW—The National Institute for Occupational Safety and Health (NIOSH), Centers for Disease Control and Prevention (CDC). The mission of the National Institute for Occupational Safety and Health is to promote safety and health at work for all people through research and prevention.

In the United States, approximately 1.1 million registered nurses work shift schedules to provide essential nursing services that are required around the clock. A recent U.S. government report indicates that the average nurse works more than 40 hours per week. Both shift work and overtime have been independently associated with increased health and safety risks. Little is known about the combined influence of shift work and overtime. In addition, most previous shift work studies of nurses have used young participants. However, the age of the average working U.S. registered nurse is now 43.3 years and has been increasing over the past 20 years. This aging workforce will be more vulnerable to the adverse health and safety risks associated with shift work and overtime. This study will examine the combined influence of shift work and overtime on health and safety in the current registered nurse workforce. The study will provide data for work schedule design recommendations. Potential secondary benefits to society will be improved patient outcomes.

Specific Aim 1. Examine if certain characteristics of shift work schedules, such as shift length (ie. 12-hour, 8-hour shifts), night work, and rotating work schedules are associated with increased health and safety risks.

Specific Aim 2. Examine how shift work and overtime interact to influence health and safety risks.

Specific Aim 3. Examine if disturbances of sleep, family life, and social life mediate effects of work schedules on health and safety.

The study is based on the theoretical model by Barton et al. (1995) who propose that shift work exerts a negative effect on health and safety outcomes by disturbing sleep, family life, and social life. The study will use a cross-sectional design to survey 1,000 registered nurses who will be randomly selected from 10 large hospitals. Participants will be asked to complete a survey, complete a 7-day sleep/activity diary, provide one set of blood pressure readings, and provide a copy of their work schedule from their hospital records for the previous 3-month period. The survey includes items for personal characteristics such as age and weight; health history; lifestyle factors such as smoking and alcohol use; sleep characteristics and problems; factors at work and other responsibilities such as child care; work schedule factors; musculoskeletal discomfort; gastrointestinal and cardiovascular symptoms; mood; automobile crashes and near misses; needlestick injuries; and job satisfaction.

The study will compute a list of work characteristics based on the actual work start and end times. Statistical modeling will be used to examine characteristics of work schedules associated with increased risk while controlling for demographic, health history, lifestyle, and work-related risk factors. A base model will be developed with significant control variables for each outcome. Work schedule variables will then be added to the base model to test for significant relationships while controlling for co-variates. There are no costs to respondents.

Form name | No. of respondents | No. of responses/respondent | Avg. burden/response (in hours) | Total burden (in hours)
Survey | 1000 | 1 | 30/60 | 500
7-day sleep/activity diary | 1000 | *7 | 5/60 | 583
Total |  |  |  | 1,083
*1 response per day × 7 days = 7.

Dated: June 21, 2002.
Nancy E. Cheal,
Acting Associate Director for Policy, Planning and Evaluation, Centers for Disease Control and Prevention.

[FR Doc. 02-16302 Filed 6-27-02; 8:45 am]

BILLING CODE 4163-18-P